DEPARTMENT OF THE INTERIOR

National Park Service

[NPS-WASO-NRNHL-16060; PPWOCRADI0, PCU00RP14.R50000]

National Register of Historic Places; Notification of Pending Nominations and Related Actions

Nominations for the following properties being considered for listing or related actions in the National Register were received by the National Park Service before June 14, 2014. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th Floor, Washington, DC 20005; or by fax, 202-371-6447. Written or faxed comments should be submitted by July 17, 2014. Before including your address, phone number, email address, or other personal identifying information in your comment, you should be aware that your entire comment—including your personal identifying information—may be made publicly available at any time. While you can ask us in your comment to withhold your personal identifying information from public review, we cannot guarantee that we will be able to do so.

Dated: June 19, 2014.
Alexandra Lord,
Acting Chief, National Register of Historic Places/National Historic Landmarks Program.

COLORADO

El Paso County

People's Methodist Episcopal Church, 527 E. St. Vrain St., Colorado Springs, 14000432

Saguache County

Saguache Downtown Historic District, Roughly 300 & 400 blks. of 4th St., Saguache, 14000433

CONNECTICUT

Windham County

American Thread Company, 322, 440, 480, 560 Main & 157 Union Sts., Willimantic, 14000434

Wilkinson Mill, 52-58 Pomfret St., Putnam, 14000435

DISTRICT OF COLUMBIA

District of Columbia

Hebrew Home for the Aged and Jewish Social Service Agency, 1125-1131 Spring Rd. NW., Washington, 14000436

KANSAS

Mitchell County

Antelope Creek Masonry Arch Bridge, (Masonry Arch Bridges of Kansas TR) 1000 mi. of Cty. Rd. 210, Tipton, 14000437

Brown's Creek Tributary Masonry Arch Bridge, (Masonry Arch Bridges of Kansas TR) 2300 mi. on Cty. Rd. B, Glen Elder, 14000438

North Rock Creek Masonry Arch Bridge, (Masonry Arch Bridges of Kansas TR) V Rd., .4 mi. E. of 190th Rd., Hunter, 14000439

MASSACHUSETTS

Berkshire County

Ramsdell Public Library, 1087 Main St., Great Barrington, 14000440

NEBRASKA

Saunders County

Hoffman Building, 1325 & 1341 Silver St., Ashland, 14000441

NEW JERSEY

Middlesex County

St. Ladislaus Magyar Roman Catholic Church, 213 Somerset St., New Brunswick, 14000442

Morris County

L'Ecole, 25 Kiel Ave., Kinnelon, 14000443

NEW MEXICO

Dona Ana County

Jones, Frank and Amelia, House, 18000 Castillo Rd., La Mesa, 14000444

NORTH CAROLINA

Martin County

Williamston Colored School, 705 Washington St., Williamson, 14000445

TENNESSEE

Anderson County

Norris Dam State Park Rustic Cabins Historic District, 125 Village Green Cir., Lake City, 14000446

Carter County

Miller Farmstead, Dave Miller Hollow Rd., Roan Mountain, 14000449

Haywood County

College Hill Historic District, (Brownsville, Tennessee MPS) Roughly bounded by Haralson, Margin & Cherry Sts., N. Wilson Ave., Brownsville, 14000447

North Washington Historic District, (Brownsville, Tennessee MPS) Roughly bounded by N. Wilson & N. Park Aves., Thomas & E. Main Sts., Brownsville, 14000448

Shelby County

Picardy Place Historic District, (Memphis MPS) 157-205 S. Fenwick Rd., 160-201 Picardy Place, Memphis, 14000450

VERMONT

Chittenden County

Battery Street Historic District (Boundary Increase II), 214 through 240 Pine St. (excluding 235), Burlington, 14000451

WISCONSIN

Racine County

Kane Street Historic District, Generally bounded by Washington & Rudolph Sts., Perkins Blvd., Gardner Ave., Burlington, 14000452

A request for removal has been received for the following resources:

TENNESSEE

Macon County

Keystone School, TN 52 W. of Lafayette, just E. of Gap of the Ridge, Lafayette, 93000031

Shelby County

Wells—Arrington Historic District, (Residential Resources of Memphis MPS) 563-610 Arrington Ave. & 556-601 Wells Ave., Memphis, 99000463

[FR Doc. 2014-15492 Filed 7-1-14; 8:45 am]

BILLING CODE 4312&ndash51-P